DEPARTMENT OF THE INTERIOR

Fish and Wildlife Service

RIN 1018-AI58

Tribal Wildlife Grants (TWG) Program Implementation Guidelines for Fiscal Year (FY) 2002

AGENCY: Fish and Wildlife Service, Interior.

ACTION: Notice; request for comments.

SUMMARY: The Department of the Interior and Related Agencies Appropriations Act for Fiscal Year (FY) 2002 authorized an appropriation of $85 million for wildlife conservation grants to States and to the District of Columbia, U.S. Territories, and Tribes under provisions of the Fish and Wildlife Act of 1956 and the Fish and Wildlife Coordination Act, for the development and implementation of programs for the benefit of wildlife and their habitat, including species that are not hunted or fished. The Act further specified that the Fish and Wildlife Service (Service) use $5 million of the funds to establish a competitive grant program available to federally-recognized Indian tribes. This language allows the Secretary, through the Director of the Service, to establish a separate tribal grant program that would not be subject to the provisions of the formula-based State Wildlife Grant program, or other requirements of the State Wildlife Grants portion of Public Law 107-63. The Service is providing draft implementation guidance for this $5 million Tribal Wildlife Grant program.

DATES: Interested parties should submit comments to the addresses under the heading ADDRESSES by January 27, 2003. Commentors regarding information collection requirements should note that the Office of Management and Budget has up to 60 days to approve or disapprove information collection submissions, but may respond after 30 days. Therefore, an early comment response would be advised.

ADDRESSES: Comments to this proposed implementation guidance should be sent to: Robyn Thorson, Assistant Director—External Affairs, U.S. Fish and Wildlife Service, 1849 C Street, NW, Mail Stop 3012 MIB, Washington, DC 20240. Comments may be telefaxed as well to: 202/501-3524. For information collection requirements under the Paperwork Reduction Act, send comments to: Interior Desk Officer, Attn: 1018-0109, Office of Management and Budget, 725 17th Street, NW, Washington, DC 20503, and send a copy of these paperwork burden comments to U.S. Fish and Wildlife Service, Information Collection Clearance Officer, 4401 North Fairfax Drive, Room 224, Arlington, VA 22203.

The Service will make all comments received in response to this Notice available for public review during regular business hours at the Office of the Native American Liaison. If a respondent wishes his or her name or address to be withheld from public view, we will honor these wishes to the extent allowable by law, if the respondent makes this request known at the time of comment submission.

FOR FURTHER INFORMATION CONTACT: Patrick Durham, Office of the Native American Liaison, U.S. Fish and Wildlife Service, 1849 C Street, Mail Stop 3012 MIB, Washington, DC 20240, 202/208-4133.

SUPPLEMENTARY INFORMATION:

I. Background

The Department of the Interior and Related Agencies Appropriations Act for Fiscal Year (FY) 2002 (Public Law 107-63) authorized an appropriation of $85 million for wildlife conservation grants to States and to the District of Columbia, U.S. Territories, and Tribes under provisions of the Fish and Wildlife Act of 1956 and the Fish and Wildlife Coordination Act, for the development and implementation of programs for the benefit of wildlife and their habitat, including species that are not hunted or fished. The Act further specified that the U.S. Fish and Wildlife Service (Service) use $5 million of the funds to establish a competitive grant program available to federally-recognized tribes. This language allows the Secretary, through the Director of the Service, to establish a separate tribal grant program that would not be subject to the provisions of the formula-based State Wildlife Grant program, or other requirements of the State Wildlife Grants portion of Public Law 107-63. The Service is providing guidance to the public and, particularly, to federally-recognized tribes, in the administration of this $5 million Tribal Wildlife Grant (TWG) program. A series of questions and answers follow that describe the proposed guidelines in some detail.

The Service is proposing this guidance with the intent of gathering input from the affected communities. Whereas the Service is seeking comments on all aspects of TWG, several items are of particular interest. The Service is soliciting comments on whether it should limit funding to any one tribe to 5 percent (%) or some other amount of the total available funding. The Service also wishes to determine whether the proposed ranking criteria appropriately addresses Congressional intent for the use of such funds. Public input will also be helpful in the appropriate participation level of tribal organizations in implementing TWG-funded activities.

II. Proposed Implementation Guidelines

A. Eligibility

1. Who May Participate in the TWG Program?

The Service proposes a competitive process that affords federally-recognized tribes in all parts of the United States an opportunity to participate in the grant program.

2. Are State-Recognized Tribes or Petitioning Tribes Eligible To Receive Grants Under This Program?

No, only federally-recognized tribes are eligible to receive grants under this program. Federally-recognized tribes are listed in the Federal Register/Volume 67, Number 134/July 12, 2002/Notices.

3. Can Tribal Organizations or Other Non-Tribal Entities Receive Grants Under This Program?

No, however, the Service proposes that tribal organizations or other non-tribal entities that could not enter into grant agreements may do so as subgrantees or contractors to federally-recognized tribes. The Service is aware of various types of tribal organizations and other non-tribal entities and seeks public comments regarding their participation in TWG.

4. What Process Does the Service Propose To Use To Distribute TWG Funds?

The Service will request proposals through a Federal Register notice, direct contact, and other forms of outreach to eligible applicants. The Service's Regional Directors will receive all proposals.

5. Who Will Coordinate Regional Grant Application Submissions?

The Regional Native American Liaisons of the Service will coordinate the process to screen these proposals and rank them according to nationally uniform criteria.

6. How Will the Various Regional Grant Application Submissions Be Reviewed for National Funding?

A national panel will review Regionally-ranked proposals for recommendations to the Director of the Service (Director).

7. Who Will Be Empaneled To Serve as the National Review Panel?

The Regional Native American Liaisons of the Service will serve on the panel in addition to other Service and other Federal agency personnel, as appropriate and as may be identified by the Director.

8. Will Tribal Representatives Be Involved in Reviewing or Ranking Proposals?

No, only Federal employees will review and rank proposals in this initial year. However, we are interested in receiving comments from the public on ways to involve tribal representatives in this process in future years.

9. Who Will Make the Final Determination for Grant Approval?

The Director will make the final determination for grant approval.

B. Application Requirements

1. Is the TWG Program Exempt From Federal Grant Program Compliance?

No, the TWG program is not exempt from any of the Federal grant program compliance requirements as specified in 43 CFR part 12, OMB Circulars A-102 and A-87, and Service Manual Chapters 552 FW1 and 523 FW1.

2. What Must Proposals for Participation in the TWG Program Include?

Proposals must include a cover letter, program summary, program narrative, budget narrative, and tribal resolution of support as described herein.

• A cover letter briefly states the main features of the proposed project.

• A program summary describes, in one-half page, the type of activity that would take place if the service funds the program.

• A program narrative clearly identifies the problems that the proposal will correct or help solve as they relate to the development and implementation of programs for the benefit of wildlife and their habitat, including species that are not hunted or fished, and the expected results or benefits. It must contain a needs assessment, objectives, time line, methodology, geographic location (with maps), monitoring plan, and identification of clear, obtainable, and quantifiable goals and performance measures that will help achieve the management goals and objectives of the TWG and relevant Service performance goals. The two relevant Service goals are the Sustainability of Fish and Wildlife Populations (Goal 1.2) and Habitat Conservation (Goal 2.3), which can be found in the Service's Long Term Strategic Plan for 2000 to 2005 at http://planning.fws.gov/USFWStrategicPlanv3.pdf. Related Service planning and results can be found at http://planning.fws.gov/.

• A budget narrative clearly justifies all proposed costs and indicates that the grantee will provide adequate management systems for fiscal and contractual accountability, including annual monitoring and evaluation of progress toward desired project objectives, goals, and performance measures. It should include discussion of direct cost items such as salaries, equipment, consultant services, subcontracts and travel, as well as project matching or cost sharing information. Applicants may cover new administrative costs, but they cannot include pre-existing administrative costs.

• A resolution of support from the appropriate tribal governing body stating its support for the proposal.

3. Where Can Applicants Obtain a Grant Proposal Package?

Applicants can obtain a grant proposal package from the appropriate Service Regional Native American Liaison, as listed in Subpart IV of this document.

4. Are Matching Funds Required?

No, however, it is encouraged and the proposed ranking criteria will consider matching funds as an indication of tribal commitment to the program and to encourage partnerships.

5. Are In-Kind Contributions Eligible as Matching Funds?

Yes, in-kind contributions may be used as a match to improve the potential ranking of a proposal. The Service has defined “in-kind” as non-cash contributions made by the tribe. In-kind contributions must be necessary and reasonable for carrying out the program, and must represent the same value that the Service would have paid for similar services or property if purchased on the open market. Allowable in-kind contributions are defined in 43 CFR part 12.64. The following website provides additional information: http://training.fws.gov/fedaid/toolkit/inkind.pdf.

6. Can a Tribe Submit More Than One Grant Proposal?

Tribes are encouraged to submit a single comprehensive grant proposal. After all proposals have been ranked, the Service may allow tribes to submit additional proposals if the funding has not all been obligated.

7. Is There a Maximum Level of Funding That Will Be Considered Under the TWG Program?

The Service wants to encourage the maximum amount of participants in the TWG program. Therefore, the Service recommends a maximum of no more than 5 percent (%) of the total available funds be awarded to any tribe. However, depending upon the number of proposals submitted and the relative merit of each proposal, some tribes may be awarded sums which would exceed this proposed 5 percent (%) funding level.

8. Is There a Minimum Level of Funding That Will Be Considered Under the TWG Program?

No, the Service recommends no minimum level of funding.

C. Ranking Criteria

What ranking criteria is the Service proposing to use?

The Service has developed the following potential ranking criteria and weight factors for review and comment. The Service will be using these criteria in evaluating each proposal on a scale of zero (0) through one hundred (100) points.

Benefit: What are the expected benefits to fish and wildlife resources, including species that are not hunted or fished, and their habitat if this program is successfully completed? (0-15 points)

Performance Measures: To what extent does the proposal provide obtainable and quantifiable performance measures and a means to monitor, evaluate, and report on these measures compared to an initial baseline? The measures should be specific, clear and provide demonstrable benefits to the target species of the action. These actions should support the goals of the TWG and relevant Service performance goals. The two relevant Service performance goals are Sustainability of Fish and Wildlife Populations (Goal 1.2) and Habitat Conservation (Goal 2.3) which can be found at http://planning.fws.gov/USFWStrategicPlanv3.pdf. (0-15 points)

Work Plan: Are the program activities and objectives well-designed and achievable? (0-10 points)

Budget: Are all major budget items justified in relation to the program objectives and clearly explained in the narrative description? (0-15 points)

Capacity Building: To what extent does the program increase the grantee's capacity to provide for the benefit of wildlife and their habitat? (0-10 points)

Commitment: To what extent does the applicant display commitment to the program through in-kind contribution or matching funds? (0-10 points)

Partnerships: To what extent does the program incorporate contributions from other non-Federal partners in the form of either cash or in-kind services? (0-15 points)

Administrative Costs: What is the percentage (%) of program funds identified for use on actual projects as opposed to staff and related administrative costs? Ranking will be improved as the percentage of funds identified for staff and related administrative costs decrease. (0-10 points)

D. TWG Operations and Management

1. In the Course of Implementing a TWG Project or Program Can Grantees Use TWG Funds To Pay for Costs of Conservation Law Enforcement?

Yes, however, such effort must be critical to the development and implementation of the TWG project or program and for the benefit of wildlife and their habitat.

2. What Activities Are Included in the “Development and Implementation of Programs for the Benefit of Wildlife” as Referenced in the Department of the Interior and Related Agencies Appropriations Act for FY 2002?

Activities may include, but are not limited to, planning for wildlife and habitat conservation; ongoing and/or new fish and wildlife management actions; fish and wildlife related laboratory and field research; natural history studies; habitat mapping; field surveys and population monitoring; habitat preservation; land acquisition; conservation easements; and outreach efforts.

3. Can Grantees Use TWG Funds To Cover Costs of Environmental Review, Habitat Evaluation, Permit Review (e.g., Section 404), and Other Environmental Compliance Activities Associated With a TWG Project?

Yes, they can fund these activities provided they are directly related to the TWG program or project being funded and are included in the budget and discussed in the program and budget narratives.

4. Are There Any Specific Activities That Are Not Allowable Under the Guidance of TWG?

A proposal cannot include activities required to comply with a Biological Opinion or include activities required to comply with a permit (e.g., mitigation responsibilities). However, a proposal can include activities that implement conservation recommendations.

5. Is the TWG Program a Continuous Revenue Source for Tribal Wildlife Programs?

No, there is no authorization for appropriation of funds beyond FY 2002. Funds appropriated in FY 2002 are available until spent.

6. Can the Grantee Hold TWG Funds in an Interest-Bearing Account?

No, TWG grant funds may not be held in interest-bearing accounts.

E. Grant Award Procedures

1. What Additional Information Must Be Provided to the Service by the Grantees Once Awards Are Announced?

Once the Director notifies grantees that their proposal was selected for funding, the recipient must submit a Standard Form 424 (Application for Federal Assistance) along with a grant agreement and attachments as required by Federal regulations. As with our other Federal programs, TWG agreements must comply with 43 CFR part 12, the National Environmental Policy Act, Section 7 of the Endangered Species Act, the National Historic Preservation Act, and all other applicable Federal laws and regulations. This grant program is also subject to provisions of Office of Management and Budget Circulars No. A-87, A-102, and A-133 (http://www.whitehouse.gov/omb/circulars).

2. Once Grants Are Awarded, Who Should the Grantee Consider as the Lead Contact Person?

Once grants have been awarded, the grantee should consider the appropriate Regional Native American Liaison of the Service as the lead contact person for all matters pertaining to the particular award.

3. When Will the Service Award TWG Grants?

Once the Service has reviewed and ranked all eligible TWG grant proposals, the Director will make his final decision within 30 days of the recommendations of the national review panel.

4. How Will Funds Be Disbursed Once the Service Has Awarded TWG Grants?

Subsequent to funding approval, grant funds are electronically delivered to the Health and Human Services' SMARTLINK payment system. Through this electronic funds transfer (EFT) grantees will be able to receive their funds on a reimbursement basis. Some of the tribal grantees may not be EFT compliant. In order to insure optimal service to potential grantees within the current Federal Aid process, grantees will need to obtain EFT capabilities. Grantees may request an advance of no more than 25 percent (%) of the total grant. Such requests will be individually reviewed by the Service and honored if sufficient hardship or need is demonstrated that would preclude the success of the proposal if advance funds are not made available.

5. What Reporting Requirements Must Tribes Meet Once Funds Are Obligated Under a TWG Grant Agreement?

The Service requires an annual progress report and Financial Status Report (FSR) for grants longer than one year. A final performance report and FSR (SF-269) are due to the Regional Office within 90 days of the grant agreement ending date. In the annual progress report, the tribes must include a list of project accomplishments relative to those which were planned in the grant agreement. The effectiveness of each tribe's program, as reported in the annual progress reports, will be an important factor considered during the grant award selection process in subsequent years.

III. Procedural Requirements

A. Regulatory Planning and Review (Executive Order 12866)

This policy document identifies proposed eligibility criteria and selection factors that may be used to award grants under the TWG program. The Service developed this draft policy to ensure consistent and adequate evaluation of grant proposals that are voluntarily submitted and to help perspective applicants understand how the Service will award grants. According to Executive Order 12866, this policy document is significant and has been reviewed by the Office of Management and Budget (OMB) in accordance with the four criteria discussed below.

1. The TWG will not have an annual effect on the economy of $100 million or more or adversely affect in a material way the economy, a sector of the economy, productivity, jobs, the environment, public health or safety, or State or local communities. The Department of the Interior and Related Agencies Appropriations Act for Fiscal Year (FY) 2002 allowed the Secretary to create the TWG program. In addition, grants that are funded will generate other, secondary benefits, including benefits to natural systems (e.g., air, water) and local economies. All of these benefits are widely distributed and are not likely to be significant in any single location. It is likely that some residents where projects are initiated will experience some level of benefit, but quantifying these effects at this time is not possible. We do not expect the sum of all the benefits from this program, however, to have an annual effect on the economy of $100 million or more.

2. We do not believe the TWG program would create inconsistencies with other agencies' actions. Congress has given the Service the responsibility to administer this program.

3. As a new grant program, the TWG program would not materially alter the budgetary impact of entitlements, user fees, loan programs, or the rights and obligations of their recipients. This policy document establishes a new grant program that Public Law 107-63 authorizes, which should make greater resources available to applicants. The submission of grant proposals is completely voluntary, but necessary to receive benefits. When an applicant decides to submit a grant proposal, the proposed eligibility criteria and selection factors identified in this policy can be construed as requirements placed on the awarding of the grants. Additionally, we will place further requirements on grantees that are selected to receive funding under the TWG program in order to obtain and retain the benefit they are seeking. These requirements include specific Federal financial management and reporting requirements as well as specific habitat improvements or other management activities described in the applicant's grant proposal.

4. OMB has determined that this policy raises novel legal or policy issues, and, as a result, this document has undergone OMB review.

B. Regulatory Flexibility Act (5 U.S.C. 601 et seq.)

Under the Regulatory Flexibility Act, 5 U.S.C. 601 et seq., as amended, whenever an agency is required to publish a notice of rulemaking for any proposed or final rule, it must prepare and make available for public comment a regulatory flexibility analysis that describes the effects of the rule on small entities (e.g., small businesses, small organizations, and small government jurisdictions). Indian tribes are not considered to be small entities for purposes of the Act and, consequently, no regulatory flexibility analysis has been done.

C. Small Business Regulatory Enforcement Fairness Act (SBREFA) of 1996

This proposed implementation guidance is not considered a major rule under the Small Business Regulatory Enforcement Fairness Act (SBREFA) of 1996 (5 U.S.C. 804(2)) because it does not have an annual effect on the economy of $100 million or more. The yearly amount of TWG program funds is limited to $5 million.

This proposed implementation guidance will not cause a major increase in costs or prices for consumers, individual industries, Federal, state, or local government agencies, or geographic regions. Actions under this proposed implementation guidance will distribute Federal funds to Indian tribal governments and tribal entities for purposes consistent with activities akin to programs under the Fish and Wildlife Act of 1956 and the Fish and Wildlife Coordination Act.

This proposed implementation guidance does not have significant adverse effects on competition, employment, investment, productivity, innovation, or the ability of U.S.-based enterprises to compete with foreign-based enterprises.

D. Unfunded Mandates Reform Act

This proposed implementation guidance would not impose unfunded mandates as defined by the Unfunded Mandates Reform Act of 1995 (Public Law 104-4, March 22, 1995, 109 Stat. 48). This proposed rule will not result in the expenditure by State, local and tribal governments, in the aggregate, or by the private sector, of $100 million or more in any one year (2 U.S.C. 1532).

E. Takings Implication Assessment (Executive Order 12630)

This proposed implementation guidance does not have significant “takings” implications. This proposed implementation guidance does not pertain to “taking” of private property interests, nor does it impact private property.

F. Executive Order 13211—Energy Effects

On May 18, 2001, the President issued Executive Order 13211 which speaks to regulations that significantly affect energy supply, distribution, and use. The Executive Order requires agencies to prepare Statements of Energy Effects when undertaking certain actions. This proposed implementation guidance is not expected to significantly affect energy supplies, distribution, or use. Therefore, no Statement of Energy Effects has been prepared.

G. Executive Order 12612—Federalism

This proposed implementation guidance does not have significant Federalism effects because it pertains solely to Federal-tribal relations and will not interfere with the roles, rights, and responsibilities of States.

H. Civil Justice Reform (Executive Order 12988)

This proposed implementation guidance does not unduly burden the judicial system and meets the applicable standards provided in sections 3(a) and 3(b)(2) of the Executive Order 12988.

I. National Environmental Policy Act (NEPA)

This proposed implementation guidance does not constitute a Federal action significantly affecting the quality of the human environment. The Service has determined that the issuance of the proposed implementation guidance is categorically excluded under the Department of the Interior's NEPA procedures in 516 DM 2, Appendix 1 and 516 DM 6, Appendix 1. The Service will ensure that grants funded through the TWG program are in compliance with NEPA.

J. Consultation and Coordination With Indian Tribal Governments (Executive Order 13175)

Pursuant to Executive Order 13175 of November 6, 2000, “Consultation and Coordination with Indian Tribal Governments,” we have committed to consulting with tribal representatives in the finalization of the implementation guidance for the TWG program. We have evaluated any potential effects on federally-recognized Indian tribes and have determined that there are no potential adverse effects. This guidance expands tribal participation in Service programs and allows for opportunities for tribal wildlife management and conservation initiatives across Indian Country. We will continue to consult with tribal governments and tribal entities throughout the comment period, as a part of the rulemaking process, and beyond in furthering our mutual goals for the TWG program.

K. Paperwork Reduction Act (44 U.S.C. 3501)

The information collection requirements of this program will be largely met through the Federal Aid Grants Application Booklet. Federal Aid has applied for OMB approval under Control Number 1018-1019. This approval applies to grants managed by the Division of Federal Aid, even if for other Divisions of the Service. We are collecting this information relevant to the eligibility, substantiality, relative value, and budget information from applicants in order to make awards of grants under these programs. We are collecting financial and performance information to track costs and accomplishments of these grant programs. Completion of these application and reporting requirements will involve a paperwork burden of approximately 80 hours per grant proposal. This does not include any burden hours previously approved by OMB for standard or Fish and Wildlife Service forms. Your response to this information collection is required to receive benefits in the form of a grant, and does not carry any premise of confidentiality. An agency may not conduct or sponsor, and a person is not required to respond to, a collection of information unless it displays a currently valid OMB control number. With respect to this 80 hour per application increase in burden hours, interested parties should contact the Information Collection Clearance Officer listed in the ADDRESSES section of this document.

IV. Native American Liaisons for the Fish and Wildlife Service

Regional correspondence and telephone contacts for the Service for this proposed implementation guidance and other appropriate purposes are as follows:

Region 1—Hawaii, Idaho, Oregon, Washington, Nevada, and California

Native American Liaison, U.S. Fish and Wildlife Service, 911 NE. 11th Avenue, Portland, Oregon 97232-4181, TWG Contact: Scott Aiken (503) 231-6121.

Region 2—Arizona, New Mexico, Oklahoma, and Texas

Native American Liaison, U.S. Fish and Wildlife Service, 500 Gold Avenue, SW., Albuquerque, New Mexico 87103, TWG Contact: John Antonio (505) 248-6810.

Region 3—Illinois, Indiana, Iowa, Michigan, Minnesota, Missouri, Ohio, and Wisconsin

Native American Liaison, U.S. Fish and Wildlife Service, One Federal Drive, Fort Snelling, Minnesota, TWG Contact: John Leonard (612) 713-5108.

Region 4—Alabama, Arkansas, Florida, Georgia, Kentucky, Louisiana, Mississippi, North Carolina, South Carolina, and Tennessee

Native American Liaison, U.S. Fish and Wildlife Service, 1875 Century Boulevard, Suite 410, Atlanta, Georgia 30345, TWG Contact: Jim Brown (404) 679-7125.

Region 5—Connecticut, Delaware, District of Columbia, Maine, Maryland, Massachusetts, New Hampshire, New Jersey, New York, Pennsylvania, Rhode Island, Vermont, Virginia, and West Virginia

Native American Liaison, U.S. Fish and Wildlife Service, 300 Westgate Center Drive, Hadley, Massachusetts 01035-9589, TWG Contact: D.J. Monette (413) 253-8662 or (609) 646-9310.

Region 6—Colorado, Kansas, Montana, Nebraska, North Dakota, South Dakota, Utah, and Wyoming

Native American Liaison, U.S. Fish and Wildlife Service, PO Box 25486—Denver Federal Center, Denver, Colorado 80225-0486, TWG Contact: David Redhorse (303) 236-7905 x253.

Region 7—Alaska

Native American Liaison, U.S. Fish and Wildlife Service, 1011 East Tudor Road, Anchorage, Alaska 99503-6199, TWG Contact: Tony DeGange (907) 786-3492.

Dated: October 1, 2002.
Paul Hoffman,
Acting Assistant Secretary, Fish and Wildlife and Parks.

[FR Doc. 02-32700 Filed 12-26-02; 8:45 am]

BILLING CODE 4310-55-P